Title 3—

The President

Memorandum of December 20, 2005

Designation of Officers of the Office of the Director of National Intelligence To Act as Director of National Intelligence

Memorandum for the Director of National Intelligence

By the authority vested in me as President by the Constitution and laws of the United States of America, including the Federal Vacancies Reform Act of 1998, 5 U.S.C. 3345, et seq., it is hereby ordered that:

Section 1. Subject to the provisions of sections 3 and 4 of this memorandum, the officers of the Office of the Director of National Intelligence named in section 2, in the order listed, shall act as and perform the functions and duties of the office of the Director of National Intelligence (DNI), during any period in which the DNI and the Principal Deputy Director of National Intelligence have died, resigned, or otherwise become unable to perform the functions and duties of the office of the DNI, until such time as at least one of the officers listed in this section is able to perform the functions and duties of the DNI.

Sec. 2. Order of Succession.

(a) Deputy Director of National Intelligence for Management;

(b) Deputy Director of National Intelligence for Collection;

(c) Deputy Director of National Intelligence for Analysis;

(d) Deputy Director of National Intelligence for Customer Outcomes;

(e) Chief of Staff, Office of the Director of National Intelligence;

(f) General Counsel, Office of the Director of National Intelligence; and

(g) Chief Information Officer, Office of the Director of National Intelligence.

Sec. 3. National Security Act of 1947. This memorandum shall not supercede the authority of the Principal Deputy Director of National Intelligence to act for, and exercise the powers of, the Director of National Intelligence during the absence or disability of the Director of National Intelligence or during a vacancy in the position of Director of National Intelligence, (National Security Act of 1947, as amended, 50 U.S.C. 403-3a).

Sec. 4. Exceptions.

(a) No individual who is serving in an office listed in section 2 in an acting capacity shall act as the DNI pursuant to this section.

(b) Notwithstanding the provisions of this memorandum, the President retains discretion, to the extent permitted by law, to depart from this memorandum in designating an acting DNI.

Sec. 5. Publication.

You are authorized and directed to publish this memorandum in the Federal Register.

B

THE WHITE HOUSE,

Washington, December 20, 2005.

[FR Doc. 05-24507

Filed 12-22-05; 8:45 am]

Billing code 3195-01-P